DEPARTMENT OF THE INTERIOR

Bureau of Land Management

[NV-030-00-1020-24]

Sierra Front-Northwestern Great Basin Resource Advisory Council; Notice of Meeting Location and Time

AGENCY: Bureau of Land Management, Interior.

ACTION: Notice of meeting location and time for the Sierra Front-Northwestern Great Basin Resource Advisory Council (Nevada).

SUMMARY: In accordance with the Federal Land Policy and Management Act and the Federal Advisory Committee Act of 1972 (FACA), the U.S. Department of the Interior, Bureau of Land Management (BLM) Sierra Front-Northwestern Great Basin Resource Advisory Council (RAC), Nevada, will be held as indicated below. Topics for discussion will include a plan amendment overview for the Pine Nut Mountains; a presentation on landscape-level management of sagebrush dependant species and Great Basin restoration concepts; a review of planning for the Knott Creek Grazing Allotment with a preview of a July 2001 RAC field trip to the allotment; and other topics the council may raise.

All meetings are open to the public. The public may present written and/or oral comments to the council at 9 a.m. on Friday, April 27, 2001. The detailed agenda will be available on the internet by April 12, 2001, at www.nv.blm.gov/rac; hard copies can also be mailed or sent via FAX. Individuals who need special assistance such as sign language interpretation or other reasonable accommodations should contact Mark Struble, Carson City Field Office, 5665 Morgan Mill Road, Carson City, NV 89701, telephone (775) 885-6107 no later than April 20, 2001.

DATE & TIME: The RAC will meet on Thursday, April 26, 2001, from 9:00 a.m. to 5:00 p.m., and Friday, April 27, 2001, from 8:00 a.m. to 4:00 p.m., at Walley's Hot Springs Resort, 2001 Foothill Road (NV State Route 206), Genoa, Nevada. A field trip will be conducted to the Pine Nut Mountains on Thursday, April 26, 12:00 p.m. to 5:00 p.m.—members of the public are invited to attend, but will need to provide their own high-clearance vehicle, lunch and water. Public comment on individual topics will be received at the discretion of the council chairperson, as meeting moderator, with a general public comment period on Friday, April 27, 2001, at 9:00 a.m.

FOR FURTHER INFORMATION CONTACT: Mark Struble, Public Affairs Officer, BLM Carson City Field Office, 5665 Morgan Mill Road, Carson City, NV 89701. Telephone (775) 885-6107.

Dated: March 16, 2001.
John O. Singlaub,
Manager, Carson City Field Office.

[FR Doc. 01-7311 Filed 3-23-01; 8:45 am]

BILLING CODE 4310-HC-P